DEPARTMENT OF THE TREASURY

Privacy Act of 1974; System of Records

AGENCY: Department of the Treasury, Bureau of Engraving and Printing (BEP)

ACTION: Notice of a Modified System of Records.

SUMMARY: In accordance with the Privacy Act of 1974, as amended, the Department of the Treasury (“Treasury” or the “Department”), Bureau of Engraving and Printing (BEP) proposes to modify an existing system of records titled, “Department of the Treasury, Bureau of Engraving and Printing (BEP) .046—Automated Mutilated Currency Tracking System” that will now be titled “Department of the Treasury, Bureau of Engraving and Printing (BEP) .046—Mutilated Currency Requests Tracking System.”

DATES: Submit comments on or before September 8, 2017. This modified system and the routine uses will be effective September 8, 2017 unless BEP receives comments and determines that changes to the system of records notice are necessary.

ADDRESSES: You may submit comments to the Federal eRulemaking Portal electronically at http://www.regulations.gov. You may also submit comments to Leslie J. Rivera-Pagán, Attorney/Adviser—Privacy Act Officer, Office of the Chief Counsel, U.S. Department of the Treasury, Bureau of Engraving and Printing, Room 419-A, 14th & C Streets SW., Washington, DC 20228, Attention: Revisions to Privacy Act Systems of Records. You may also fax comments to (202) 874-2951 or submit by email to Leslie.Rivera-Pagan@bep.gov. For faxes and emails, please place, “Revisions to SORN Treasury/BEP -.046—Mutilated Currency Requests Tracking System,” in the subject line. Comments will be made available for public inspection upon written request. The BEP will make such comments available for public inspection and copying at the above listed location, on official business days between 9:00 a.m. and 5:00 p.m. eastern time. Persons wishing to review the comments must request an appointment by telephoning (202) 874-2500. All comments received, including attachments and other supporting documents, are part of the public record and subject to public disclosure. You should submit only information that you wish to make available publicly. All comments received will be posted without change to http://www.regulations.gov, including any personal information provided.

FOR FURTHER INFORMATION CONTACT: For general questions and privacy issues please contact: Leslie J. Rivera-Pagán at (202) 874-2500 or Leslie.Rivera-Pagan@bep.gov.

SUPPLEMENTARY INFORMATION: In accordance with the Privacy Act of 1974, 5 U.S.C. 552a, the Department of the Treasury (“Treasury” or the “Department”), Bureau of Engraving and Printing (“BEP”) proposes to modify an existing system of records titled, “Department of the Treasury, Bureau of Engraving and Printing (BEP) .046—Automated Mutilated Currency Tracking System.”

The BEP's Office of Financial Management (“OFM”), Mutilated Currency Division (MCD) uses the Mutilated Currency Requests Tracking System to track requests for examination of mutilated currency submitted by individuals, institutions, or executors/administrators (“requesters”) to the BEP for evaluation and possible redemption. On May 29, 2014, the BEP amended its regulations on exchange of mutilated currency in order to update mutilated currency procedures and eliminate references to obsolete practices and terms. See 31 CFR part 100, subpart B, 100.5-100.9, 79 FR 30724 (2014). The new BEP's regulations require requesters to provide personal banking information since all mutilated currency redemptions of $500.00 or more shall be made via electronic funds transfers (“EFT”) by the Department of the Treasury, Bureau of the Fiscal Service (“BFS”) in accordance with the Debt Collection Improvement Act of 1996 (DCIA), 31 U.S.C. 3332(e).

Under the existing system of records, BEP may collect limited personal information from requesters to process the requests and redeem the mutilated currency, if authorized. The BEP has encountered some schemes where currency is mutilated intentionally in an apparent attempt to defraud the Federal government. The intentionally mutilated currency is often intermingled with other bills in an apparent effort to thwart detection. The amendments to the existing system of records are needed to identify the individual submitting the request, document how the currency came to be mutilated, provide bank account information to BFS to allow payment via EFT, and help deter fraud and abuse in mutilated currency submissions.

The changes to the system of records include: (1) Renaming all headings and the system title to “Department of the Treasury, Bureau of Engraving and Printing (BEP) .046—Mutilated Currency Requests Tracking System.”; (2) expanding the type and categories of records maintained in the system, including bank account number and bank routing number to allow payment via EFT; (3) clarifying agency's authority for collecting, maintaining, using, and disseminating the records in the system; (4) correcting the applicable records retention schedule citation; (5) discontinuing the use of address as a source for retrieval of records; (6) discontinuing routine uses for sharing information with the unions and the news media after BEP conducted a review and determined that these routine use disclosures are duplicative and unnecessary; and (7) adding routine uses to share information with (a) the Department of Justice for providing legal advice or represent the BEP, and (b) other Federal agencies or Federal entities as required by OMB Memorandum 17-12, “Preparing for and Responding to a Breach of Personally Identifiable Information,” dated January 3, 2017, to assist BEP in responding to a suspected or confirmed breach or prevent, minimize, or remedy the risk of harm to the requesters, BEP, the Federal government, or national security. Other changes throughout the document are editorial in nature and consist primarily of correction of citations, updates to address, and clarification to the storage and safeguards.

BEP has provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

For the reasons set forth in the preamble, BEP proposes to modify its system of records entitled “Department of the Treasury, Bureau of Engraving and Printing (BEP) .046—Automated Mutilated Currency Tracking System” as follows:

For the reasons set forth in the preamble, BEP proposes to modify its system of records entitled “Department of the Treasury, Bureau of Engraving and Printing (BEP) .046—Automated Mutilated Currency Tracking System” as follows:

Dated: August 1, 2017.
Ryan Law,
Deputy Assistant Secretary for Privacy, Transparency, and Records.

SYSTEM NAME AND NUMBER:

Department of the Treasury, Bureau of Engraving and Printing (BEP) .046—Mutilated Currency Requests Tracking System.

SECURITY CLASSIFICATION:

None.

SYSTEM LOCATION:

Records are maintained at the Office of Financial Management, Bureau of Engraving and Printing, District of Columbia Facility, 14th & C Streets SW., Washington, DC 20228.

SYSTEM MANAGER(S):

Chief, Bureau of Engraving and Printing, District of Columbia Facility, Office of Financial Management, 14th & C Streets SW., Washington, DC 20228.

AUTHORITY FOR MAINTENANCE OF THE SYSTEM:

5 U.S.C. 301, 12 U.S.C. 413, 31 U.S.C. 321, 3332, 5118, 5120 and 31 CFR part 100, subpart B, 100.5-100.9.

PURPOSE(S) OF THE SYSTEM:

The purpose of this system is to track requests for examination of mutilated currency submitted to the Bureau of Engraving and Printing (BEP) for evaluation and possible redemption. In addition, the system will help process the payments of mutilated currency requests of $500.00 via electronic funds transfer (EFT) with the Department of the Treasury, Bureau of the Fiscal Service.

CATEGORIES OF INDIVIDUALS COVERED BY THE SYSTEM:

Individuals, institutions, and executors/administrators (requesters) submitting requests for examination of mutilated currency for possible redemption.

CATEGORIES OF RECORDS IN THE SYSTEM:

• Name;

• Home Address;

• Business Address;

• Home Phone Number;

• Business Phone Number;

• Personal Email Address;

• Business Email Address;

• Estimated Total Amount of Currency;

• Bank Name;

• Bank Routing Number;

• Bank Account Number;

• Description Mutilated Currency Remnants;

• Signature;

• Case Number;

• Open Date;

• Close Date;

• Delivery Code;

• Delivery Tracking Number;

• Denomination;

• Note Code;

• Number of Notes;

• Grade of Notes;

• Initial Examiner's Name;

• Current Examiner's Name;

• Committee Examiner's Name;

• Committee Verifier's Name;

• IRS Amount;

• Remitted Amount;

• Payment Status;

• Location Code;

• Assigned To Name;

• Transferred Date;

• Archived Date;

• Payee Name;

• Secure Payment System (SPS) Schedule Number; and

• SPS Schedule Line Number.

RECORD SOURCE CATEGORIES:

Records are obtained from the requester (i.e., individual, institution, or administrator/executor) and BEP employees.

ROUTINE USES OF RECORDS MAINTAINED IN THE SYSTEM, INCLUDING CATEGORIES OF USERS AND THE PURPOSES OF SUCH USES:

In addition to those disclosures generally permitted under the Privacy Act of 1974, 5 U.S.C. 552a(b), records and/or information or portions thereof maintained as part of this system may be disclosed outside Treasury/BEP as a routine use pursuant to 5 U.S.C. 552a(b)(3) as follows:

(1) To appropriate federal, state, local, or foreign agencies, or other public authority agencies responsible for investigating or prosecuting the violations of, or for enforcing, or implementing, a statute, rule, regulation, order, or license, where the disclosing agency becomes aware of a potential violation of civil, administrative, or criminal law, or regulation;

(2) To federal, state, local, or other public authority agency which has requested information relevant or necessary to the requesting agency's, bureau's, or authority's hiring or retention of an individual, or issuance of a security clearance, license, contract, grant, or other benefit;

(3) To a court, adjudicative body, or other administrative body before which BEP is authorized to appear when (a) the agency; (b) any employee of the agency in his or her official capacity; (c) any employee of the agency in his or her individual capacity where the U.S. Department of Justice (“DOJ”) or the agency has agreed to represent the employee; or (d) the Government of the United States, when the agency determines that litigation is likely to affect the agency, is a party to litigation or has an interest in such litigation, and the use of such records by the agency is deemed to be relevant and necessary to the litigation or administrative proceeding and not otherwise privileged;

(4) To a congressional office in response to an inquiry made at the request of the individual to whom the record pertains;

(5) To the Department of Justice (“DOJ”) for its use in providing legal advice to the BEP or in representing the BEP in a proceeding before a court, adjudicative body, or other administrative body before which the BEP is authorized to appear, where the BEP deems DOJ's use of such information relevant and necessary to the litigation, and such proceeding names as a party or interests:

(a) The BEP or any component of it;

(b) Any employee of the BEP in his or her official capacity;

(c) Any employee of the BEP in his or her individual capacity where DOJ has agreed to represent the employee; or

(d) The Government of the United States, where the BEP determines that litigation is likely to affect the BEP or any of its components;

(6) To third parties during the course of an investigation conducted by the BEP to the extent necessary to support the investigation;

(7) To appropriate agencies, entities, and persons when (1) the Department and/or BEP suspects or has confirmed that there has been a breach of the system of records; (2) the Department and/or BEP has determined that as a result of the suspected or confirmed breach there is a risk of harm to individuals, the Department and/or BEP (including its information systems, programs, and operations), the Federal government, or national security; and (3) the disclosure made to such agencies, entities, and persons is reasonably necessary to assist in connection with the Department and/or BEP efforts to respond to the suspected or confirmed breach or to prevent, minimize, or remedy such harm; and

(8) To another Federal agency or Federal entity, when the Department and/or BEP determines that information from this system of records is reasonably necessary to assist the recipient agency or entity in (1) responding to a suspected or confirmed breach or (2) preventing, minimizing, or remedying the risk of harm to individuals, the recipient agency or entity (including its information systems, programs, and operations), the Federal government, or national security resulting from a suspected or confirmed breach.

POLICIES AND PRACTICES FOR STORAGE OF RECORDS:

Records in this system are stored electronically or on paper in secure facilities in a locked drawer behind a locked door.

POLICIES AND PRACTICES FOR RETRIEVAL OF RECORDS:

Records may be retrieved by case number, delivery tracking number, and name.

POLICIES AND PRACTICES FOR RETENTION AND DISPOSAL OF RECORDS:

Records are managed in accordance with National Archives and Records Administration approved BEP Records Schedule N1-318-04-16 Currency Standards.

ADMINISTRATIVE, TECHNICAL, AND PHYSICAL SAFEGUARDS:

Access is limited to personnel approved by the Office of Financial Management, Mutilated Currency Division. There are both logical and physical controls in place to protect access to the data. Records are maintained in locked file cabinets. Only authorized users have access to the area that houses the file cabinets. Rooms are locked when not manned by cleared personnel.

RECORD ACCESS PROCEDURES:

Individuals seeking to determine whether this system of records contains their information should address written inquiries in accordance with 31 CFR part 1 to the Disclosure Officer, Bureau of Engraving and Printing, Office of the Chief Counsel—FOIA and Transparency Services, 14th & C Streets SW., Room 419-A, Washington, DC 20228.

CONTESTING RECORD PROCEDURES:

See “Record Access Procedures” above.

NOTIFICATION PROCEDURES:

See “Record Access Procedures” above.

EXEMPTIONS PROMULGATED FOR THE SYSTEM:

None.

HISTORY:

Notice of this system of records was last published in full on April 16, 2013 (78 FR 22617) as the Department of the Treasury, Bureau of Engraving and Printing (BEP) .046—Automated Mutilated Currency Tracking System”.

[FR Doc. 2017-16789 Filed 8-8-17; 8:45 am]

BILLING CODE 4840-01-P